DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Public User ID Badging.

Form Number(s): PTO-2030, PTO-2224.

Agency Approval Number: 0651-0041.

Type of Request: Revision of a currently approved collection.

Burden: 989 hours annually.

Number of Respondents: 10,003 responses per year.

Avg. Hours Per Response: The USPTO expects that it will take the public approximately 5 to 10 minutes (0.08 to 0.17 hours) to gather the necessary information, create the document, and submit the completed request.

Needs and Uses: The USPTO is required by 35 U.S.C. 41(i)(1) to maintain a Public Search Facility to provide patent and trademark collections for searching and retrieval of information. The USPTO issues online access cards to customers who wish to use the electronic search systems at the Public Search Facility. Under the authority provided in 41 CFR part 102-81, the USPTO also issues security identification badges to members of the public who wish to use the facilities at the USPTO. The public uses this information collection to request an online access card or a security identification badge and to register for the free user training classes.

Affected Public: Businesses or other for-profits.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0041 copy request” in the subject line of the message.

• Mail: Susan K. Fawcett, Records Officer, Office of the Chief Information Officer, United States Patent and Trademark Office, P.O. Box 1450, Alexandria, VA 22313-1450.

Written comments and recommendations for the proposed information collection should be sent on or before March 19, 2012 to Nicholas A. Fraser, OMB Desk Officer, via email to Nicholas_A._Fraser@omb.eop.gov, or by fax to 202-395-5167, marked to the attention of Nicholas A. Fraser.

Dated: February 13, 2012.
Susan K. Fawcett,
Records Officer, USPTO, Office of the Chief Information Officer.

[FR Doc. 2012-3617 Filed 2-15-12; 8:45 am]

BILLING CODE 3510-16-P